DEPARTMENT OF VETERANS AFFAIRS

38 CFR Part 1

RIN 2900-AQ27

Release of Information From Department of Veterans Affairs' Records

AGENCY: Department of Veterans Affairs.

ACTION: Final rule; correction.

SUMMARY: On April 1, 2019, the Department of Veterans Affairs (VA) published a rule to amend its regulations governing the submission and processing of requests for information under the Freedom of Information Act (FOIA) and the Privacy Act to reorganize, streamline, and clarify existing regulations. An error occurred in one amendatory instruction. This document corrects that error.

DATES: This correction is effective May 1, 2019.

FOR FURTHER INFORMATION CONTACT: Catherine Nachmann, Attorney, Office of General Counsel (024), Department of Veterans Affairs, 810 Vermont Avenue NW, Washington, DC 20420, (202) 461-7742. (This is not a toll-free number.)

SUPPLEMENTARY INFORMATION: On April 1, 2019, VA published a rule in the Federal Register (84 FR 12122) which contained an error in instruction number 11 under 38 CFR 1.561.

Correction

In FR Rule Doc. No. 2019-06101, appearing on page 12128 in the Federal Register of April 1, 2019, make the following correction:

1. On page 12128, in the second column, for § 1.561, correct instruction number 11.b. to read as follows:

b. Adding paragraph (b)(10).

Dated: April 9, 2019.
Consuela Benjamin,
Regulations Development Coordinator, Office of Regulation Policy & Management, Office of the Secretary, Department of Veterans Affairs.

[FR Doc. 2019-07271 Filed 4-11-19; 8:45 am]

BILLING CODE 8320-01-P